DEPARTMENT OF LABOR

Employment and Training Administration

[TA-W-72,483]

Maysteel, LLC Including On-Site Leased Workers From Staff One, Badger Tech, Boyd Hunter, Seek, QPS, and Service First, Menomonee Falls, WI; Amended Certification Regarding Eligibility To Apply for Worker Adjustment Assistance

In accordance with Section 223 of the Trade Act of 1974, as amended (“Act”), 19 U.S.C. 2273, the Department of Labor issued a Certification of Eligibility to apply for Worker Adjustment Assistance on March 12, 2010, applicable to workers of Maysteel, LLC, including on-site leased workers from Staff One, Badger Tech, Boyd Hunter, Seek, and QPS, Menomonee Falls, Wisconsin. The notice will soon be published in the Federal Register.

At the request of the State Agency, the Department reviewed the certification for workers of the subject firm. The workers are engaged in activities related to the production of metal enclosures.

The company reports that workers leased from Service First were employed on-site at the Menomonee Falls, Wisconsin location of Maysteel, LLC. The Department has determined that these workers were sufficiently under the control of the subject firm to be considered leased workers.

Based on these findings, the Department is amending this certification to include workers leased from Service First working on-site at the Menomonee Falls, Wisconsin location of Maysteel, LLC.

The amended notice applicable to TA-W-72,483 is hereby issued as follows:

“All workers of Maysteel, LLC, including on-site leased workers from Staff One, Badger Tech, Boyd Hunter, Seek, QPS, and Service First, Menomonee Falls, Wisconsin, who became totally or partially separated from employment on or after September 21, 2008, through March 12, 2012, and all workers in the group threatened with total or partial separation from employment on the date of certification through two years from the date of certification, are eligible to apply for adjustment assistance under Chapter 2 of Title II of the Trade Act of 1974, as amended.”

Signed in Washington, DC, this 13th day of April 2010.
Elliott S. Kushner,
Certifying Officer, Division of Trade Adjustment Assistance.

[FR Doc. 2010-9571 Filed 4-23-10; 8:45 am]

BILLING CODE 4510-FN-P